DEPARTMENT OF COMMERCE

National Oceanic and Atmospheric Administration

[I.D. 071105D]

Gulf of Mexico Fishery Management Council; Public Meetings

AGENCY: National Marine Fisheries Service (NMFS), National Oceanic and Atmospheric Administration (NOAA), Commerce.

Cancellation of public meetings and notice of rescheduling.

SUMMARY: The Gulf of Mexico Fishery Management Council has cancelled its meetings scheduled for July 11 - 15, 2005 in Fort Myers Beach, FL, due to Hurricane Dennis. The Council has rescheduled the meetings for August 8-12, 2005.

DATES: The meetings will be held August 8-12, 2005.

ADDRESSES: These meetings will be held at the DiamondHead Beach Resort, 2000 Estero Boulevard, Fort Myers Beach, FL.

Council address: Gulf of Mexico Fishery Management Council, 2203 North Lois Avenue, Suite 1100, Tampa, FL 33607.

FOR FURTHER INFORMATION CONTACT: Wayne E. Swingle, Executive Director, Gulf of Mexico Fishery Management Council; telephone: (813) 348-1630.

SUPPLEMENTARY INFORMATION:

Meeting Agenda (Committees and Council)

Committees

Monday, August 8, 2005

8:30 a.m. - 8:45 a.m. - The Scientific and Statistical (SSC) Selection Committee will meet in closed session to appoint SSC members.

8:45 a.m. - 10 a.m. - The Advisory Panel (AP) Selection Committee will meet to develop the structure of the Ad Hoc Red Grouper Individual Fishing Quota (IFQ) AP.

10 a.m. - 10:45 a.m. - The Coral Management Committee will meet to review the recommendations of the Coral SSC on coral reef research and other matters.

10:45 a.m. - 11:30 a.m. - The Joint Budget/Personnel Committee will meet to consider options recommended by staff under the Family Medical Leave Act (FMLA) revision to the SOPPs.

1 p.m. - 5:30 p.m. - The Reef Fish Management Committee will review the new red snapper stock assessment conducted under the SouthEast Data, Assessment and Review (SEDAR) process, which yields a peer-reviewed assessment. They will also review the recommendations of the SSC, SEP and Red Snapper AP on this assessment. The Committee will review Draft Reef Fish Amendment 26 for a red snapper IFQ program and select their preferred alternatives for management measures that will be presented at public hearings in August. The Reef Fish Management Committee will review public hearing summaries, public letters, AP recommendations, SSC recommendations, Federal recommendations and committee recommendations on Reef Fish Amendment 18A/EA, which addresses enforcement and monitoring issues including simultaneous commercial and recreational harvest on a commercial fishing vessel, maximum crew size on a vessel with a Coast Guard Certificate of Inspection when fishing commercially, use of reef fish for bait, and vessel monitoring system requirements for reef fish vessels. Reef Fish Amendment 18A/EA also addresses revisions to the framework procedure for setting total allowable catch, and measures to reduce bycatch mortality of endangered sea turtles and smalltooth sawfish. The Committee will then review public hearing comments on the NMFS interim red grouper rule and select preferred alternatives for a Council regulatory amendment that will replace the interim rule once it expires.

Tuesday, August 9, 2005

8:30 a.m. - 11:30 a.m. - The Reef Fish Management Committee resumes.

1 p.m. - 4 p.m. - The Shrimp Management Committee will hear a presentation on bycatch reduction devices (BRDs), review a preliminary scoping document on Amendment 14 and hear a report on the status of shrimp stocks.

4 p.m. - 5:30 p.m. - The Sustainable Fisheries/Ecosystem Committee will meet to consider the recommendations of the Ecosystem SSC and to develop recommendations to Congress on amendments to the Magnuson-Stevens Fishery Conservation and Management Act.

Wednesday, August 10, 2005

8:30 a.m. - 9:30 a.m. - The joint Sustainable Fisheries/Ecosystem Committee continues.

9:30 a.m. - 10:30 a.m. - The Joint Reef Fish/Mackerel Management Committees will review public hearing summaries, public letters, AP recommendations, SEP comments, SSC recommendations and committee recommendations on Final Generic Amendment for Extension of Charter Vessel Permit Moratorium and make recommendations to the Council.

Council

Wednesday, August 10, 2005

10:45 a.m. - Convene.

11 a.m. - 12 noon - The Council will hear a presentation on the licensing of liquefied natural gas (LNG) facilities.

1:30 p.m. - 6 p.m. - Receive public testimony on the preliminary Red Grouper Regulatory Amendment.

Thursday, August 11, 2005

8:30 a.m. - 8:40 a.m. - Receive the SSC Selection Committee Report (CLOSED SESSION).

8:40 a.m. - 11:30 a.m. - Receive public testimony on (a) the preliminary Red Grouper Regulatory Amendment, (b) Reef Fish Amendment 18A/EA, (c) Charter Vessel Permit Moratorium Extension (CMP17/RF 25) and (d) Exempted fishing permits (if any).

1 p.m. - 1:30 p.m. - Receive a presentation on a Permits Information Management System.

1:30 p.m. - 1:35 p.m. - Receive the SSC Selection Committee Report.

1:35 p.m. - 1:50 p.m. - Receive the AP Selection Committee Report.

1:50 p.m. - 5 p.m. - Receive the Reef Fish Management Committee Report.

Friday, August 12, 2005

8:30 a.m. - 9:30 a.m. - Receive the Shrimp Management Committee report.

9:30 a.m. - 10 a.m. - Receive the Coral Management Committee report.

10 a.m. - 10:15 a.m. - Receive the Joint Budget/Personnel Committee Report.

10:15 a.m. - 10:45 a.m. - Receive the Sustainable Fisheries/Ecosystem Committee Report.

10:45 a.m. - 11:15 a.m. - Receive the joint Reef Fish/Mackerel Management Committees Report.

11:15 a.m. - 11:30 a.m. - Receive the NRC Recreational Data Meeting report.

11:30 a.m. - 11:45 a.m. - Other Business.

Although other non-emergency issues not on the agendas may come before the Council and Committees for discussion, in accordance with the Magnuson-Stevens Fishery Conservation and Management Act (M-SFCMA), those issues may not be the subject of formal action during these meetings. Actions of the Council and Committees will be restricted to those issues specifically identified in the agendas and any issues arising after publication of this notice that require emergency action under Section 305(c) of the M-SFCMA, provided the public has been notified of the Council's intent to take action to address the emergency. The established times for addressing items on the agenda may be adjusted as necessary to accommodate the timely completion of discussion relevant to the agenda items. In order to further allow for such adjustments and completion of all items on the agenda, the meeting may be extended from, or completed prior to the date established in this notice.

Special Accommodations

These meetings are physically accessible to people with disabilities. Requests for sign language interpretation or other auxiliary aids should be directed to Dawn Aring at the Council (see ADDRESSES) by July 25, 2005.

Dated: July 12, 2005.
Alan D. Risenhoover,
Acting Director, Office of Sustainable Fisheries, National Marine Fisheries Service.

[FR Doc. E5-3777 Filed 7-14-05; 8:45 am]

BILLING CODE 3510-22-S